DEPARTMENT OF TRANSPORTATION

Federal Aviation Administration

14 CFR Part 39

[Docket No. FAA-2020-0583; Product Identifier 2020-NM-071-AD; Amendment 39-21291; AD 2020-21-18]

RIN 2120-AA64

Airworthiness Directives; Airbus SAS Airplanes

AGENCY: Federal Aviation Administration (FAA), Department of Transportation (DOT).

ACTION: Final rule.

SUMMARY: The FAA is superseding Airworthiness Directive (AD) 2019-14-09, which applied to all Airbus SAS Model A330-200 Freighter series airplanes. AD 2019-14-09 required repetitive detailed inspections, including functional testing, of the oxygen crew and courier distribution system (OCCDS) and replacement of affected part(s) if necessary. This AD retains the requirements of AD 2019-14-09 and requires replacement of all affected parts with improved serviceable parts, which is terminating action for the repetitive inspections, as specified in a European Union Aviation Safety Agency (EASA) AD, which will be incorporated by reference. The FAA is issuing this AD to address the unsafe condition on these products.

DATES: This AD is effective December 7, 2020.

The Director of the Federal Register approved the incorporation by reference of a certain publication listed in this AD as of December 7, 2020.

ADDRESSES: For the EASA material incorporated by reference (IBR) in this AD, contact the EASA, Konrad-Adenauer-Ufer 3, 50668 Cologne, Germany; telephone +49 221 8999 000; email ADs@easa.europa.eu; internet www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-0583.

Examining the AD Docket

You may examine the AD docket on the internet at https://www.regulations.gov by searching for and locating Docket No. FAA-2020-0583; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Vladimir Ulyanov, Aerospace Engineer, Large Aircraft Section, International Validation Branch, FAA, 2200 South 216th St., Des Moines, WA 98198; telephone and fax 206-231-3229; email Vladimir.Ulyanov@faa.gov.

SUPPLEMENTARY INFORMATION:

Discussion

The EASA, which is the Technical Agent for the Member States of the European Union, has issued EASA AD 2020-0092, dated April 24, 2020 (“EASA AD 2020-0092”) (also referred to as the Mandatory Continuing Airworthiness Information, or “the MCAI”), to correct an unsafe condition for certain Airbus SAS Model A330-223F and A330-243F airplanes. EASA AD 2020-0092 superseded EASA AD 2019-0027, dated February 4, 2019 (“EASA AD 2019-0027”) (which corresponds to FAA AD 2019-14-09, Amendment 39-19687 (84 FR 37957, August 5, 2019) (“AD 2019-14-09”)).

The FAA issued a notice of proposed rulemaking (NPRM) to amend 14 CFR part 39 to supersede AD 2019-14-09. AD 2019-14-09 applied to all Airbus SAS Model A330-200 Freighter series airplanes. The NPRM published in the Federal Register on July 17, 2020 (85 FR 43503). The NPRM was prompted by reports of cracked flexible hoses of the OCCDS on Model A330 freighter airplanes and the FAA's determination that all affected parts must be replaced with improved flexible oxygen hoses in order to address the unsafe condition. The NPRM proposed to retain the requirements of AD 2019-14-09 and require replacement of all affected parts with improved serviceable parts, which is terminating action for the repetitive inspections, as specified in EASA AD 2020-0092.

The FAA is issuing this AD to address cracked oxygen hoses. This condition, if not addressed, could lead to oxygen leakage in the flexible hose of the OCCDS, which, in combination with in-flight depressurization, smoke in the flight deck, or a smoke evacuation procedure, could result in crew injury and reduced control of the airplane. See the MCAI for additional background information.

Comments

The FAA gave the public the opportunity to participate in developing this final rule. The FAA received no comments on the NPRM or on the determination of the cost to the public.

Conclusion

The FAA reviewed the relevant data and determined that air safety and the public interest require adopting this final rule as proposed, except for minor editorial changes. The FAA has determined that these minor changes:

• Are consistent with the intent that was proposed in the NPRM for addressing the unsafe condition; and

• Do not add any additional burden upon the public than was already proposed in the NPRM.

Related IBR Material Under 1 CFR Part 51

EASA AD 2020-0092 describes procedures for repetitive detailed inspections, including functional testing, of the OCCDS, replacement of affected part(s) if necessary, and modification of the airplane by replacing all remaining affected parts with improved serviceable parts. This material is reasonably available because the interested parties have access to it through their normal course of business or by the means identified in the ADDRESSES section.

Costs of Compliance

The FAA estimates that this AD affects 6 airplanes of U.S. registry. The FAA estimates the following costs to comply with this AD:

Estimated Costs for Required Actions
Action | Labor cost | Parts cost | Cost per product | Cost on U.S. operators
Retained actions from AD 2019-14-09 | 14 work-hours × $85 per hour = $1,190 | $0 | $1,190 | $7,140.
New actions | Up to 26 work-hours × $85 per hour = Up to $2,210 | $9,800 | Up to $12,010 | Up to $72,060.

According to the manufacturer, some or all of the costs of this AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2019-14-09, Amendment 39-19687 (84 FR 37957, August 5, 2019), and

b. Adding the following new AD:

2020-21-18 Airbus SAS: Amendment 39-21291; Docket No. FAA-2020-0583; Product Identifier 2020-NM-071-AD.

(a) Effective Date

This AD is effective December 7, 2020.

(b) Affected ADs

This AD replaces AD 2019-14-09, Amendment 39-19687 (84 FR 37957, August 5, 2019) (“AD 2019-14-09”).

(c) Applicability

This AD applies to Airbus SAS Model A330-223F and -243F airplanes, certificated in any category, as identified in European Union Aviation Safety Agency (EASA) AD 2020-0092, dated April 24, 2020 (“EASA AD 2020-0092”).

(d) Subject

Air Transport Association (ATA) of America Code 35, Oxygen.

(e) Reason

This AD was prompted by reports of cracked flexible hoses of the oxygen crew and courier distribution system (OCCDS) on Model A330 freighter airplanes. The FAA is proposing this AD to address cracked oxygen hoses. This condition, if not addressed, could lead to oxygen leakage in the flexible hose of the OCCDS, which, in combination with in-flight depressurization, smoke in the flight deck, or a smoke evacuation procedure, could result in crew injury and reduced control of the airplane.

(f) Compliance

Comply with this AD within the compliance times specified, unless already done.

(g) Requirements

Except as specified in paragraph (h) of this AD: Comply with all required actions and compliance times specified in, and in accordance with, EASA AD 2020-0092.

(h) Exceptions to EASA AD 2020-0092

(1) Where EASA AD 2020-0092 refers to its effective date, this AD requires using the effective date of this AD.

(2) Where EASA AD 2020-0092 refers to February 18, 2019 (the effective date of EASA AD 2019-0027, dated February 4, 2019), this AD requires using September 9, 2019 (the effective date of AD 2019-14-09).

(3) The “Remarks” section of EASA AD 2020-0092 does not apply to this AD.

(i) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (j) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): For any service information referenced in EASA AD 2020-0092 that contains RC procedures and tests: Except as required by paragraph (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

For more information about this AD, contact Vladimir Ulyanov, Aerospace Engineer, Large Aircraft Section, International Validation Branch, FAA, 2200 South 216th St., Des Moines, WA 98198; telephone and fax 206-231-3229; email Vladimir.Ulyanov@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on December 7, 2020.

(i) European Union Aviation Safety Agency (EASA) AD 2020-0092, dated April 24, 2020.

(ii) [Reserved]

(4) For EASA AD 2020-0092, contact the EASA, Konrad-Adenauer-Ufer 3, 50668 Cologne, Germany; telephone +49 221 8999 000; email ADs@easa.europa.eu; internet www.easa.europa.eu. You may find this EASA AD on the EASA website at https://ad.easa.europa.eu.

(5) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0583.

(6) You may view this material that is incorporated by reference at the National Archives and Records Administration (NARA). For information on the availability of this material at NARA, email fedreg.legal@nara.gov, or go to: http://www.archives.gov/federal-register/cfr/ibr-locations.html.

Issued on October 8, 2020.
Gaetano A. Sciortino,
Deputy Director for Strategic Initiatives, Compliance & Airworthiness Division, Aircraft Certification Service.

[FR Doc. 2020-24099 Filed 10-30-20; 8:45 am]

BILLING CODE 4910-13-P